DEPARTMENT OF TRANSPORTATION

Federal Aviation Administration

Notice of Intent To Rule on Application To Impose and Use the Revenue From a Passenger Facility Charge (PFC) at McAllen-Miller International, McAllen, TX

AGENCY: Federal Aviation Administration (FAA), DOT.

ACTION: Notice of intent to rule on application.

SUMMARY: The FAA proposes to rule and invites public comment on the application to impose and use the revenue from a PFC at McAllen-Miller International under the provisions of the Aviation Safety and Capacity Expansion Act of 1990 (Title IX of the Omnibus Budget Reconciliation Act of 1990) (Pub. L. 101-508) and part 158 of the Federal Aviation Regulations (14 CFR part 158).

DATES: Comments must be received on or before July 14, 2004.

ADDRESSES: Comments on this application may be mailed or delivered in triplicate copies to the FAA at the following address: Mr. G. Thomas Wade, Federal Aviation Administration, Southwest Region, Airports Division, Planning and Programming Branch, ASW-611, Fort Worth, Texas 76193-0610.

In addition, one copy of any comments sent to the FAA must be mailed or delivered to Mr. Derald Lary of McAllen-Miller International at the following address: Mr. Derald Lary, Director of Aviation, McAllen-Miller International Airport, 2500 S. Bicentennial Blvd., Suite 100, McAllen, TX 78503-3140.

Air carriers and foreign air carriers may send copies of the written comments previously provided to the Airport under Section 158.23 of Part 158.

FOR FURTHER INFORMATION CONTACT: Mr. G. Thomas Wade, Federal Aviation Administration, Southwest Region, Airports Division, Planning and Programming Branch, ASW-611, Fort Worth, TX 76193-0610, (817) 222-5613.

The application may be reviewed in person at this same location.

SUPPLEMENTARY INFORMATION: The FAA proposes to rule and invites public comment on the application to impose and use the revenue from a PFC at McAllen-Miller International under the provisions of the Aviation Safety and Capacity Expansion Act of 1990 (Title IX of the Omnibus Budget Reconciliation Act of 1990) (Pub. L. 101-508) and Part 158 of the Federal Aviation Regulations (14 CFR part 158).

On June 2, 2004, the FAA determined the application to impose and use the revenue from a PFC sent by the Airport was substantially complete within the requirements of Section 158.25 of Part 158. The FAA will approve or disapprove the application, in whole or in part, no later than September 24, 2004.

The following is a brief overview of the application.

Level of the proposed PFC: $4.50.

Proposed charge effective date: October 1, 2004.

Proposed charge expliration date: August 1, 2006.

Total estimated PFC revenue: $2,475,050.

PFC application number: 04-03-C-00-MFE.

Brief description of proposed project(s):

Projects To Impose and Use PFC's

South Perimeter Fencing and Access Road Improvements

Environmental Assessment and Cost/Benefit Analysis for Runway 13.31 Extension

Air Carrier Joint Reseal & Spall Repair

Taxiway C Overlay

Rehabilitate Taxiway A, Ga Apron, ATCT Apron and Customs Ramp

Project To Impose a PFC

Land Acquisition for Runway 13/31 Extension.

Proposed class or classes of air carriers to be exempted from collecting PFC's: AT/CO on Demand Air Carriers Filing FAA Form 1800-31.

Any person may inspect the application in person at the FAA office listed above under FOR FURTHER INFORMATION CONTACT and at the FAA regional Airports office located at Federal Aviation Administration, Southwest Region, Airports Division, Planning and Programming Branch, 2601 Meacham Blvd., Fort Worth, TX 76137-4298.

In addition, any person may, on request, inspect the application, notice and other documents germane to the application in person at McAllen-Miller International.

Issued in Fort Worth, Texas, on June 2, 2004.
Naomi L. Saunders,
Manager, Airports Division.

[FR Doc. 04-13303 Filed 6-10-04; 8:45 am]

BILLING CODE 4910-13-M